DEPARTMENT OF AGRICULTURE

Agricultural Marketing Service

7 CFR Part 51

[Doc. Number AMS-FV-14-0090, FV-16-327]

U.S. Standards for Grades of Fresh Fruits and Vegetables, Fruits and Vegetables for Processing, Nuts, and Specialty Crops

AGENCY: Agricultural Marketing Service, USDA.

ACTION: Final notice.

SUMMARY: The Agricultural Marketing Service (AMS) of the U.S. Department of Agriculture (USDA) is revising 41 U.S. Standards for Grades of fresh fruits and vegetables, fruits and vegetables for processing, nuts, and specialty crops by removing the “Unclassified” category from each standard. This revision brings these grade standards in line with other recently amended standards and current terminology. The change also updates the standards to more accurately represent today's marketing practices and provide the industry with greater flexibility.

DATES: September 6, 2016.

ADDRESSES: Standardization Branch, Specialty Crops Inspection Division, Specialty Crops Program, Agricultural Marketing Service, U.S. Department of Agriculture, National Training and Development Center, Riverside Business Park, 100 Riverside Parkway, Suite 101, Fredericksburg, VA 22406.

FOR FURTHER INFORMATION CONTACT: Olivia Vernon, Standardization Branch, Specialty Crops Inspection Division, at the address above or by telephone at (540) 361-2743; fax (540) 361-1199; or, email olivia.vernon@ams.usda.gov. The current U.S. Standards for Grades are available on the AMS Web site at http://www.ams.usda.gov/grades-standards.

SUPPLEMENTARY INFORMATION: Section 203(c) of the Agricultural Marketing Act of 1946 (7 U.S.C. 1621-1627), as amended, directs and authorizes the Secretary of Agriculture “to develop and improve standards of quality, condition, quantity, grade and packaging, and recommend and demonstrate such standards in order to encourage uniformity and consistency in commercial practices.” AMS is committed to carrying out this authority in a manner that facilitates the marketing of agricultural commodities and makes copies of official grade standards available upon request. The U.S. Standards for Grades of Fruits and Vegetables not connected with Federal Marketing Orders or U.S. import requirements no longer appear in the Code of Federal Regulations (CFR), but are maintained by USDA, AMS, Specialty Crops Program, and are available on the Internet at http://www.ams.usda.gov/grades-standards.

AMS is revising these voluntary U.S. standards for grades using the procedures in part 36, title 7 of the Code of Federal Regulations (7 CFR part 36).

Background

AMS is eliminating the “Unclassified” section in 41 U.S. grade standards that were issued under the Agricultural Marketing Act of 1946.

The fresh fruit and vegetable grade standards covered by these changes are: Sweet anise, lima beans, beets, Brussels sprouts, cabbage, cucumbers, endive, garlic, collard greens or broccoli greens, mustard greens and turnip greens, horseradish roots, greenhouse leaf lettuce, mushrooms, common green onions, onion sets, parsnips, fresh peas, southern peas, rhubarb, romaine, bunched shallots, spinach plants, summer squash, turnips or rutabagas, dewberries and blackberries, American (eastern type) grapes, juice grapes (European or vinifera type), and raspberries.

In the Proposed Notice, AMS inadvertently included celery, honey dew and honey ball type melons, Persian limes, summer and fall pears, and winter pears in this rulemaking. The grade standards for these commodities are published in the CFR at 7 CFR part 51 whereas the standards for the 41 commodities addressed here are not published in the CFR. AMS ultimately intends to remove celery, honey dew and honey ball type melons, Persian limes, summer and fall pears, and winter pears standards from the CFR. At that time, the “Unclassified” section will be removed from the grade standards for celery, honey dew and honey ball type melons, Persian limes, summer and fall pears, and winter pears. The fresh fruit and vegetable for processing grade standards covered by these changes are spinach, berries, blueberries, red sour cherries for manufacture, sweet cherries for canning or freezing, cranberries for processing, currants, raspberries, growers' stock strawberries for manufacture, and washed and sorted strawberries for freezing.

The nut and specialty crops grade standards covered by these changes are: Brazil nuts in the shell, cut peonies in the bud, and tomato plants.

AMS continually reviews all fruit, vegetable, nut and specialty crop grade standards to ensure their usefulness to the industry. AMS determined that the “Unclassified” section should be eliminated from the aforementioned 41 U.S. Standards for Grade as the category is not a grade and only serves to show that no grade has been applied to the lot. It is no longer considered necessary.

On September 9, 2015, AMS published a Proposed Notice in the Federal Register (80 FR 53021) soliciting comments on removing the term “Unclassified” from the standards. Seven comments were received by November 2, 2015, the closing date of the public comment period, from six private citizens and one individual associated with a U.S. university.

The six private citizen commenters supported the revisions as a positive step forward for the USDA that will offer produce companies and everyday shoppers a clearer idea of the quality of produce they are purchasing. The final commenter suggested that making this change to the standards would create the need for additional grades and categories to cover all variants with in different commodities. The USDA stands by its decision to remove the unclassified category because there is no evidence of use of the category by industry, and for the reason that commodities would fall into one of the established grades currently listed in the standards.

Based on the information gathered, AMS is removing the “Unclassified” category from the aforementioned U.S. Standards for Grade. The revision brings these grade standards in line with other recently amended standards and current terminology, and updates the standards to more accurately represent today's marketing practices and provide the industry with greater flexibility.

Authority: 7 U.S.C. 1621-1627.

Dated: July 29, 2016.
Elanor Starmer,
Administrator, Agricultural Marketing Service.

[FR Doc. 2016-18451 Filed 8-3-16; 8:45 am]

BILLING CODE 3410-02-P